DEPARTMENT OF TRANSPORTATION

Federal Aviation Administration

RTCA Special Committee 202: Portable Electronic Devices

AGENCY: Federal Aviation Administration (FAA), DOT.

ACTION: Notice of RTCA Special Committee 202 Meeting: Portable Electronic Devices.

SUMMARY: The FAA is issuing this notice to advise the public of a meeting of RTCA Special Committee 202: Portable Electronic Devices.

DATES: The meeting will be held on January 23-25, 2007, from 9 a.m. to 4:30 p.m. (unless stated otherwise).

ADDRESSES: The meeting will be held at Conference Rooms, 1828 L Street, NW., Suite 805, Washington, DC 20036.

FOR FURTHER INFORMATION CONTACT: RTCA Secretariat, 1828 L Street, NW., Suite 805. Washington, DC 20036-5133; telephone (202) 833-9339; fax (202) 833-9434; Web site http://www.rtca.org.

Primary Purpose of Meeting: The plenary is to review initial draft materials for the Recommended Guidance for Airplane Design and Certification document, and further complete the document. The committee will also consider how best to coordinate and implement it's recommendations to the FCC on spurious emissions regulation revisions. Working group sessions are on Tuesday and Thursday afternoon. Plenary Sessions are Wednesday and Thursday.

SUPPLEMENTARY INFORMATION: Pursuant to section 10(a)(2) of the Federal Advisory Committee Act (Pub. L. 92-463, 5 U.S.C., Appendix 2), notice is hereby given for a Special Committee 22 Portable Electronic Devices meeting. The agenda will include:

• January 23:

• Chairmen's Strategy Session—Colson Board Room.

• Progress and Status Update, Overall Review of Plan and Schedule for Document Completion.

• Working Group 5 Kickoff and Coordination.

• Aircraft Design and Certification Working Groups & Focus Groups Sessions.

• Sub Group on PED Statistical Analysis and Characterization—Garmin Room.

• Sub Group on IPL Test—Small Conference Room—Small Conference Room.

• Overall Group on Certification Process and Documentation—Colson Board Room.

• FCC Recommendations Focus Group—ARINC Conference Room.

• Chairmen's Strategy Session.

• Coordinate Recommendations to Plenary: Plan and Schedule for Remaining Committee Work.

• January 24 and 25:

• Opening Plenary Session (Welcome and Introductory Remarks, Review Agenda, Review/Approve previous Common Plenary Summary).

• Sub Group on IPl Test—Small Conference Room—Small Conference Room.

• Overall Group on Certification Process and Documentation—Colson Board Room.

• FCC Recommendations Focus Group—ARINC Conference Room.

• January 25:

• Chairmen's Day 2 Opening Remarks and Process Check.

• Final Overall Working Group Report.

• Identification and Plan for Closure of Open Issues.

• Phase 2 Work Remaining: Work Plan and Schedule for Completion of DO-YYY.

• Recommendation on need for Additional Working Group or Plenary Meeting(s).

• Working Group 5 (Overall Certification Process, Documentation).

• FCC Recommendations Focus Group (Reporting on Plan for Completion of Recommendations, Coordination and Implementation).

• Plenary Consensus on Plans to:

• Complete DO-YYY Recommended Guidance for Airplane Design and Certification.

• Coordinate and Implement Recommendations to FCC.

• Plenary Consensus on Need and Schedule for Additional SC-202 Meeting(s), Plenary and/or Working Group(s) to complete work on DO-YYY Document and Recommendations to FCC.

• Closing Session (Other Business, Date and Place of Upcoming Meetings (April 17-19, 2007 Eighteenth Plenary at RTCA, July 23-27, 2007 Nineteenth Plenary at RTCA).

• Adjourn to Break-out sessions for Working Groups if required and time permits.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC on December 21, 2006.
Francisco Estrada C.,
RTCA Advisory Committee.

[FR Doc. 06-9935 Filed 12-29-06; 8:45 am]

BILLING CODE 4910-13-M